DEPARTMENT OF COMMERCE

International Trade Administration

[A-428-815, A-580-816, C-580-818]

Corrosion-Resistant Carbon Steel Flat Products From Germany and the Republic of Korea: Revocation of Antidumping and Countervailing Duty Orders

AGENCY: Import Administration, International Trade Administration, Department of Commerce.

SUMMARY: As a result of the determinations by the International Trade Commission (the “ITC”) that revocation of the antidumping duty (“AD”) orders on corrosion-resistant carbon steel flat products (“CORE”) from Germany and the Republic of Korea (“Korea”) and the countervailing duty (“CVD”) order on CORE from Korea would not be likely to lead to the continuation or recurrence of material injury to an industry in the United States, the Department of Commerce (the “Department”) is revoking these AD and CVD orders.

DATES: Effective Date: February 14, 2012.

FOR FURTHER INFORMATION CONTACT: James Terpstra, AD/CVD Operations, Import Administration, International Trade Administration, U.S. Department of Commerce, 14th Street and Constitution Avenue NW., Washington, DC 20230; telephone: (202) 482-3965.

SUPPLEMENTARY INFORMATION:

Background

On January 3, 2012, pursuant to section 751(c) of the Tariff Act of 1930, as amended (“the Act”), the Department initiated the third sunset reviews of the AD orders on CORE from Germany and Korea and the CVD order on CORE from Korea.¹ On January 4, 2012, pursuant to section 752 of the Act, the ITC instituted the third sunset reviews of the AD orders on CORE from Germany and Korea and the CVD order on CORE from Korea.²

¹ See Initiation of Five-Year (“Sunset”) Review, 77 FR 85 (January 3, 2012).

² See Corrosion-Resistant Carbon Steel Flat Products From Germany and Korea: Institution of Five-Year Reviews Concerning the Countervailing Duty Order on Corrosion-Resistant Carbon Steel Flat Products From Korea and the Antidumping Duty Orders on Corrosion-Resistant Carbon Steel Flat Products From Germany and Korea, 77 FR 301 (January 4, 2012).

As a result of its reviews, on May 10, 2012 and December 6, 2012, respectively, the Department found that revocation of the CVD order would be likely to lead to continuation or recurrence of a countervailable subsidy and the AD orders would likely lead to continuation or recurrence of dumping. The Department thus notified the ITC of the magnitude of the margins of dumping and the subsidy rates likely to prevail were the orders revoked.³

³ See Certain Corrosion-Resistant Carbon Steel Flat Products From Korea: Final Results of Expedited Five-Year (“Sunset”) Review of the Countervailing Duty Order, 77 FR 27438 (May 10, 2012) and Corrosion-Resistant Carbon Steel Flat Products from Germany and the Republic of Korea: Final Results of Full Sunset Reviews, 77 FR 72827 (December 6, 2012).

On March 11, 2013, the ITC published its determination, pursuant to section 751(c) of the Act, that revocation of the AD and CVD orders on CORE from Germany and Korea would not be likely to lead to the continuation or recurrence of material injury within a reasonably foreseeable time.⁴

⁴ See Determinations: Corrosion-Resistant Carbon Steel Flat Products From Germany and Korea, 78 FR 15376 (March 11, 2013) and Corrosion-Resistant Carbon Steel Flat Products from Germany and Korea, Investigation Nos. 701-TA-350 and 731-TA-616 and 618 (Third Review) USITC Publication 4388 (March 2013).

Scope of the Orders

The products subject to the orders include flat-rolled carbon steel products, of rectangular shape, either clad, plated, or coated with corrosion-resistant metals such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 mm, are of a width of 0.5 inch or greater and which measures at least 10 times the thickness, or if of a thickness of 4.75 mm or more, are of a width which exceeds 150 mm and measures at least twice the thickness, as currently classifiable in the Harmonized Tariff Schedule of the United States (“HTSUS”) under item numbers: 7210.30.0030, 7210.30.0060, 7210.41.0000, 7210.49.0030, 7210.49.0090, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.1000, 7215.90.3000, 7215.90.5000, 7217.20.1500, 7217.30.1530, 7217.30.1560, 7217.90.1000, 7217.90.5030, 7217.90.5060, and 7217.90.5090.

Included in the orders are flat-rolled products of nonrectangular cross-section where such cross-section is achieved subsequent to the rolling process (i.e., products which have been “worked after rolling”)—for example, products which have been beveled or rounded at the edges.

Excluded from the scope of the orders are flat-rolled steel products either plated or coated with tin, lead, chromium, chromium oxides, both tin and lead (“terne plate”), or both chromium and chromium oxides (“tin-free steel”), whether or not painted, varnished or coated with plastics or other nonmetallic substances in addition to the metallic coating. Also excluded from the scope of the orders are clad products in straight lengths of 0.1875 inch or more in composite thickness and of a width which exceeds 150 mm and measures at least twice the thickness. Also excluded from the scope of the orders are certain clad stainless flat-rolled products, which are three-layered corrosion-resistant carbon steel flat-rolled products less than 4.75 mm in composite thickness that consist of a carbon steel flat-rolled product clad on both sides with stainless steel in a 20%-60%-20% ratio.

Further, the Department made three changed circumstances determination with respect to the order on Germany. The Department partially revoked the order with respect to deep-drawing carbon steel strip, roll-clad on both sides with aluminum (AlSi) foils in accordance with St3 LG as to EN 10139/10140.⁵ The Department also partially revoked the order with respect to certain wear plate products.⁶ In addition, the Department partially revoked the order with respect to the following products: certain corrosion-resistant carbon steel from Germany, meeting the following description: electrolytically zinc coated flat steel products, with a coating mass between 35 and 72 grams per meter squared on each side; with a thickness range of 0.67 mm or more but not more than 2.95 mm and width 817 mm or more but not over 1830 mm; having the following chemical composition (percent by weight): carbon not over 0.08, silicon not over 0.25, manganese not over 0.9, phosphorous not over 0.025, sulfur not over 0.012, chromium not over 0.1, titanium not over 0.005 and niobium not over 0.05; with a minimum yield strength of 310 Mpa and a minimum tensile strength of 390 Mpa; additionally coated on one or both sides with an organic coating containing not less than 30 percent and not more than 60 percent zinc and free of hexavalent chrome.⁷

⁵ See Notice of Final Results of Changed Circumstances Antidumping Duty and Countervailing Duty Reviews and Revocation of Orders in Part: Certain Corrosion-Resistant Carbon Steel Flat Products From Germany, 64 FR 51292 (September 22, 1999).

⁶ See Notice of Final Results of Antidumping Duty Changed Circumstances Reviews and Revocation of Orders In Part: Certain Corrosion-Resistant Carbon Steel Flat Products From Canada and Germany, 71 FR 14498 (March 22, 2006).

⁷ See Notice of Final Results of Antidumping Duty Changed Circumstances Review and Revocation of Order In Part: Certain Corrosion-Resistant Carbon Steel Flat Products from Germany, 71 FR 66163 (November 13, 2006).

The HTSUS subheadings are provided for convenience and customs purposes. The written description remains dispositive as to the scope of the product coverage.

Revocation

As a result of the determinations by the ITC that revocation of these AD and CVD orders would not be likely to lead to continuation or recurrence of material injury to an industry in the United States, pursuant to section 751(d)(2) of the Act, the Department is revoking the AD order on CORE from Germany and the AD and CVD orders on CORE from Korea. Pursuant to section 751(d)(2) of the Act and 19 CFR 351.222(i)(2)(i), the effective date of revocation is February 14, 2012 (i.e., the fifth anniversary of the effective date of publication in the Federal Register of the previous continuation of these orders).⁸

⁸ See Continuation Pursuant to Second Five-Year (“Sunset”) Reviews of Antidumping and Countervailing Duty Orders: Certain Corrosion-Resistant Carbon Steel Flat Products from Germany and Korea, 72 FR 7009 (February 14, 2007).

Cash Deposits and Assessment of Duties

The Department will notify U.S. Customs and Border Protection (“CBP”), 15 days after publication of this notice, to terminate the suspension of liquidation and to discontinue the collection of cash deposits on entries of the subject merchandise, entered or withdrawn from warehouse, on or after February 14, 2012. The Department will further instruct CBP to refund with interest all cash deposits on entries made on or after February 14, 2012. Entries of subject merchandise prior to the effective date of revocation will continue to be subject to suspension of liquidation and antidumping and/or countervailing duty deposit requirements and assessments. The Department will complete any pending or requested administrative reviews of these orders covering entries prior to February 14, 2012.

Administrative Protective Order

This notice also serves as the only reminder to parties subject to administrative protective order (“APO”) of their responsibility concerning the return/destruction or conversion to judicial protective order of proprietary information disclosed under APO in accordance with 19 CFR 351.305(a)(3). Failure to comply is a violation of the APO which may be subject to sanctions.

These five-year (sunset) reviews and notice are in accordance with section 751(d)(2) the Act and published pursuant to section 777(i)(1) of the Act.

Dated: March 12, 2013.
Paul Piquado,
Assistant Secretary for Import Administration.

[FR Doc. 2013-06289 Filed 3-18-13; 8:45 am]

BILLING CODE 3510-DS-P